DEPARTMENT OF LABOR

Employment and Training Administration

[TA-W-53,200]

Timber Resource Management, Inc., Livingston, MT; Notice of Termination of Investigation

Pursuant to section 221 of the Trade Act of 1974, as amended, an investigation was initiated on October 9, 2003, in response to a petition filed by a company official on behalf of workers at Timber Resource Management, Inc., Livingston, Montana.

The petitioner has requested that the petition be withdrawn. Consequently, the investigation has been terminated.

Signed at Washington, DC, this 27th day of October, 2003.
Linda G. Poole,
Certifying Officer, Division of Trade Adjustment Assistance.

[FR Doc. 03-29286 Filed 11-21-03; 8:45 am]

BILLING CODE 4510-30-P